DEPARTMENT OF DEFENSE

Department of the Army

Notice of Availability of the Record of Decision To Determine the Level of Training on the Overhills Tract, Fort Bragg, Cumberland and Harnett Counties, NC

AGENCY: Department of the Army, DOD.

ACTION: Notice of availability.

SUMMARY: The Department of the Army (DA) announces the availability of the Record of Decision to Determine the Level of Training on the Overhills Tract, Fort Bragg, Cumberland and Harnett Counties, NC. A decision is hereby made to implement Alternative IV (Preferred Alternative-Maximum training, existing recreation, and no preservation of the District) to allow the full integration of the Overhills tract into Fort Bragg's training program. The proposed action to fully integrate the Overhills into Fort Bragg's training program was evaluated in the “Final Environmental Impact Statement (FEIS) To Determine The Level Of Training On The Overhills Tract Fort Bragg, Cumberland And Harnett Counties, NC,” January 2006 (71 FR 920)). This Decision Notice summarizes the environmental, social and economic impacts of the four alternatives identified in the FEIS that were considered in making this decision, and explains why DA selected Alternative IV (Preferred Alternative-Maximum training, existing recreation, and no preservation of the District).

ADDRESSES: Copies of the ROD are available upon request from Mr. David A. Heins, Chief, Environmental Sustainment Division, Public Works Business Center, ATTN: AFZA-PW-E, Fort Bragg, NC 28310. A copy of the FEIS and the ROD may be accessed at: http://www.bragg.army.mil/envbr/nepa_review.htm.

FOR FURTHER INFORMATION CONTACT: David A. Heins, Chief, at (910) 396-8207 or e-mail at david.a.heins@us.army.mil.

SUPPLEMENTARY INFORMATION: Fort Bragg serves as headquarters for the XVIII Airborne Corps and Army Special Operations Command, and is home to the 82nd Airborne Division. The primary mission of Fort Bragg involves training and logistical and mobilization/deployment support of the XVIII Airborne Corps, United States Army Special Operations Command, the 82nd Airborne Division, and other assigned units. In order to fulfill this mission, Fort Bragg supports the most intensive and varied training program in the continental United States. A 1995 land use requirements study identified a shortfall of maneuver training land in excess of 80,000 areas. Congress authorized the purchase of the Overhills property (approximately 10,580 acres) in 1997 to help reduce the training land deficit. While Fort Bragg's mission remains constant, training concepts and space requirements are continually changing to meet the needs of today's transforming Army. These factors, in conjunction with the training land deficit, demonstrate the need to make maximum use of available training lands on Fort Bragg and to fully incorporate the Overhills tract into the installation's training program. The purpose of the integration of Overhills into the Northern Training Area (NTA) is to enhance training and to sustain environmental resources on Fort Bragg.

In 1999 Fort Bragg prepared an Environmental Assessment (EA) to adopt an Interim Training Program (ITP) on the Overhills tract. The ITP allows low impact (limited) military training with attendant management activities. Training is limited to company-size exercises (250 personnel, including support personnel) and must be conducted in accordance with the Standard Operating Procedures (SOP) for low impact training on the Overhills tract. The SOP prescribes procedures for occupation, training and police of the tract. Seven types of training activities are authorized. The Overhills represents the eastern part of the NTA (NTA units V-VIII) and comprises almost forty percent of the 23,313-acres NTA. Training in the remainder of the NTA (NTA units I-IV) is governed by the Installation Range Regulation (IRR) which allows up to brigade-size units to train using a full array of training activities. Training activities currently conducted in NTA units I-IV consist of ground and air maneuvers; operation of wheeled and tracked vehicle on and off road; river crossing, bridging, and waterborne operations; construction of fortifications and obstacles; helicopter landing zones; excavations for survivability emplacements, such as vehicle fighting positions; and use of tear agents and obscurants. There are no live fire impact areas on the NTA.

Fort Bragg proposes to fully integrate the Overhills into the installation's training program. Presently, realistic training in Fort Bragg's NTA, one of Fort Bragg's largest training areas, is hampered by the two sets of training rules that govern training in the units. No physical barriers separate the Overhills training units, NTA V-VIII, from NTA units I-IV, yet the Overhills SOP limits the number of personnel and types of activities during training exercises, effectively creating a training barrier. Applying the same training regulation to the Overhills that governs training on the rest of the installation would allow Fort Bragg to fully incorporate the Overhills into the installation's training program, and maximize training possibilities throughout the NTA.

Alternatives considered in detail in the FEIS were:

Alternative I (No Action Alternative)—Limited training, existing recreation, and preservation of the Overhills Historic District (the District) (environmentally Preferred Alternative). Alternative I describes the current conditions and activities occurring on the Overhills; it serves as the baseline for the analysis of alternatives and would maintain the status quo. Under this alternative, training activities that were analyzed in the 1999 EA and implemented by the Overhills SOP would not increase or decrease. Training on Overhills (NTA V-VIII) is currently restricted to company-level, low impact military training. The Overhills SOP limits training exercises to approximately 250 personnel to the following training activities: Dismounted movement; air mobile insertions; firing of blank small arms ammunition and simulators; movement of wheeled vehicles on maintained roads and trails; fixed activities limited to bivouac, signal, or medical in existing clearings; military operations on urbanized terrain (MOUT) training in buildings within the District that are not historically significant and non-eligible resources outside of the District; and hasty hand dug fighting positions. The use of pyrotechnic devices must be approved.

Hunting and fishing would continue in accordance with the Fort Bragg Integrated Natural Resources Management Plan (INRMP) and FB Reg. 420-11, Hunting and fishing Regulation, and would be subject to restrictions imposed on public access by military training schedules. No additional recreational use of the Overhills would occur.

All 56 of the structures, buildings, and landscapes considered contributing elements to the Overhills Historic District would continue to be preserved in accordance with the “Standards for Preservation” in the Secretary of Interior's Standards for the Treatment of Historic Properties (38 CFR part 68).

The No Action Alternative would retain the two sets of rules that govern the use of the entire NTA. Training in NTA I-IV would be in accordance with the IRR which allows a full array of training activities without restricting the number of persons. NTA units V-VIII would continue to operate under the Overhills SOP. No physical barriers would prevent the movement of troops from NTA I-IV into Overhills or vice versa, but the two sets of training rules and the unit-size restrictions on Overhills result in barriers to effective, realistic training.

Alternative II—Limited training, additional recreation, and adaptive reuse and/or layaway of selected contributing elements within the District. Management of the Overhills tract would be under the IRR and the restrictions imposed by the Overhills SOP would no longer apply. The training activities would include the full spectrum of training as authorized by the IRR. Exercises would continue to be limited to company size (250 personnel plus support personnel). In addition to the training listed in Alternative I, the following actions would occur on Overhills: Ground and air maneuvers; operation of wheeled and tracked vehicle on and off road; river crossing, bridging, and waterborne operations; construction of fortifications and obstacles; helicopter landing zones; excavations for survivability emplacements, such as vehicle fighting positions; and use of tear agents and obscurants.

A youth golf program and a horse stables program would be implemented under this alternative. The golf program would require 465 acres and utilize the historic golf course, 7 buildings that surround the course and the existing recreational facilities. The horse stables program would require 196 acres on Overhills as well as the restoration of 7 buildings. Hunting and fishing would continue in accordance with the Fort Bragg INRMP and FB Reg. 420-11, Hunting and Fishing Regulation, and would be subject to restrictions imposed on public access by military training schedules.

A total of 15 contributing elements (14 buildings and the golf course) would be required to operate the youth golf and horse stables programs. These buildings, structures and landscapes would be adaptively reused or preserved in layaway in support of the recreation programs in accordance with the Standards for Rehabilitation or the Standards for Preservation in the Secretary of Interior's Standards for the Treatment of Historic Properties (38 CFR part 68). The remaining 41 contributing elements would be incorporated into the training program after all legal requirements under the National Historic Preservation Act (NHPA), the Fort Bragg Integrated Cultural Resources Management Plan (ICRMP) and AR 200-4, Cultural Resources Management are fulfilled.

Alternative II would allow for more effective and realistic training, although on a small scale (limited to 250 personnel plus support personnel), because training activities on both NTA I-IV and on Overhills (NTA V-VIII) would be governed by one set of rules, the IRR. However, this alternative requires over 600 acres of Overhills west of Hwy NC-87 for the recreation programs. Additionally, a buffer zone would have to be established in order to prevent incompatible adjacent land uses between the land used for the recreational programs and training. This alternative would channelize training activities near the southern boundary of Overhills and also limit the avenues of approach and maneuver formations that could be conducted on Overhills.

Alternative III—Intermediate Training, additional recreation, and adaptive reuse and/or layaway of selected contributing elements within the District. Under this alternative the level of activity on Overhills would be increased to accommodate battalion-sized units (approximately 1,000 personnel), plus support personnel. Training activities listed in Alternatives II would be conducted in accordance with the IRR, which allows for more effective, realistic training scenarios.

The youth golf and horse stable programs and hunting and fishing would occur as described in Alternative II. Historic buildings would be preserved as described in Alternative II. The acreage and buildings identified in Alternative II that are required for the additional recreation programs would also be eliminated from training use under this alternative This alternative would channelize training activities near the southern boundary of Overhills and also limit the avenues of approach and maneuver formations that could be conducted on Overhills.

Alternative IV (Preferred Alternative)—Maximum training, existing recreation, and no preservation of the District. Under this alternative the level of training would be increased to accommodate brigade-sized units (approximately 5,000 personnel), and the Overhills would be used in the same manner as the other training areas on Fort Bragg. Units up to and including brigade size would train in accordance with the IRR and the training activities listed in Alternative II would be permitted. Overhills would be fully incorporated into the installation's training program.

The number of personnel would depend on such factors as the type of training (i.e. Infantry, Armor, Special Operations, etc.), unit configuration, and training area landscape. Incorporating Overhills fully into the Fort Bragg training program would not change the number of brigade size exercises presently held on the installation. However, permitting brigade-size training on the Overhills in accordance with the IRR would provide trainers with additional training areas when scheduling exercises.

Hunting and fishing would continue in accordance with the Fort Bragg INRMP and FB Reg. 420-11, Hunting and Fishing Regulation, and would be subject to restrictions imposed on public access by military training schedules. No additional recreational use of the Overhills would occur.

After fulfillment of all requirements under NHPA, the Fort Bragg ICRMP and AR 200-4, Cultural Resources Management, all 56 contributing elements would be integrated into the training program.

After review of the FEIS, and careful consideration of public comments received throughout the NEPA process, Alternative IV (Preferred Alternative—Maximum training, existing recreation, and no preservation of the District) was selected for the Record of Decision. This alternative best supports Fort Bragg's ability to enhance the overall capability of the installation to perform its primary mission—the training and logistical and mobilization/deployment support of the XVIII Airborne Corps, United States Army Special Operations Command, 82nd Airborne Division, and other assigned units—, while continuing to sustain the environmental resources on Fort Bragg. The following factors were considered in making the selection of Alternative IV: (1) Fullest use of training lands; (2) maintenance and upkeep of the historic buildings; (3) compatibility of recreation and training; and (4) sustainability of the environment.

Although the No Action Alternative has fewer environmental impacts it does not fully support Fort Bragg's primary mission—the training and logistical and mobilization/deployment support of the XVIII Airborne Corps, United States Army Special Operations Command, 82nd Airborne Division, and other assigned units. The Preferred Alternative allows Fort Bragg to fulfill its mission requirements while meeting the installation's responsibility for environmental stewardship. Fort Bragg has identified all practicable means to avoid or minimize environmental impacts resulting from implementation of the Preferred Alternative (IV); all identified mitigation and monitoring in the FEIS will be adopted.

Thomas M. Jordan,
Brigadier General, United States Army, Assistant Deputy Chief of Staff, G-3/5/7, (Readiness).

[FR Doc. 06-4233 Filed 5-4-06; 8:45 am]

BILLING CODE 3710-08-M